DEPARTMENT OF COMMERCE

National Oceanic and Atmospheric Administration

RIN 0648-XU91

Mid-Atlantic Fishery Management Council; Atlantic Mackerel, Butterfish, Atlantic Bluefish, Spiny Dogfish, Summer Flounder, Scup, Black Sea Bass, Tilefish, Surfclam, and Ocean Quahog Annual Catch Limits and Accountability Measures Omnibus Amendment

AGENCY: National Marine Fisheries Service (NMFS), National Oceanic and Atmospheric Administration (NOAA), Commerce.

ACTION: Supplemental Notice of Intent to prepare an environmental assessment (EA); request for comments.

SUMMARY: The Mid-Atlantic Fishery Management Council (Council) announces its intention to prepare, in cooperation with NMFS, an EA in accordance with the National Environmental Policy Act (NEPA) to assess potential effects on the human environment of alternative measures to address the Magnuson-Stevens Fishery Conservation and Management Act (Magnuson-Stevens Act) requirements for annual catch limits (ACLs) and accountability measures (AMs) in an Omnibus Amendment to the fishery management plans (FMPs) for Atlantic mackerel, butterfish, Atlantic bluefish, spiny dogfish, summer flounder, scup, black sea bass, tilefish, surfclams, and ocean quahogs.

This supplemental notice is to alert the interested public of the Council's intent to change the level of NEPA analysis from an Environmental Impact Statement (EIS) to an EA. In addition, this supplement announces an opportunity for the public to comment on the change.

DATES: Written comments must be received on or before 5 p.m., EST, on March 25, 2010.

ADDRESSES: Written comments may be sent by any of the following methods:

• E-mail to the following address: 0648-XU91@noaa.gov;

• Mail or hand deliver to Daniel T. Furlong, Executive Director, Mid-Atlantic Fishery Management Council, 800 North State Street, Suite 201, Dover, DE 19901. Mark the outside of the envelope “Omnibus Amendment: National Standard 1 Requirements Comments”; or

• Fax to (302) 674-5399.

Questions about this action may be directed to the Council office at the previously provided address, or by request to the Council by telephone (302) 674-2331.

FOR FURTHER INFORMATION CONTACT: Mr. Daniel T. Furlong, Mid-Atlantic Fishery Management Council, Room 800 North State Street, Suite 201, Dover, DE 19901, (telephone 302-674-2331).

SUPPLEMENTARY INFORMATION: On March 24, 2009, the Council announced its intention to prepare, in cooperation with NMFS, an EIS in accordance with NEPA to assess potential effects on the human environment of alternative measures to address the new Magnuson-Stevens Act requirements for ACLs and AMs (74 FR 12314). The Council has been in the process of developing an Omnibus Amendment to the FMPs for Atlantic mackerel, butterfish, Atlantic bluefish, spiny dogfish, summer flounder, scup, black sea bass, tilefish, surfclams, and ocean quahogs to address ACL and AM requirements since 2008.

During the development that has occurred to date for the Omnibus Amendment, three public scoping hearings have been conducted, and the Council has conducted numerous Fishery Management Action Team (FMAT) Omnibus Amendment Committee, and full Council meetings, wherein approaches and potential alternatives have been discussed. These discussions have included public participation. The development process has made clear that the action of the Omnibus Amendment will be confined to a description of process and the preparation of an EIS no longer appears to be necessary. Rather, the Council will develop an EA; if, during the development of the EA or at such time that the analysis indicates a Finding of No Significant Impact (FONSI) statement cannot be supported, the Council will re-initiate development of an EIS. A public hearing draft of the Omnibus Amendment is expected to be available mid-2010, and the Council will conduct several public hearings on the draft once it is completed.

Authority: 16 U.S.C. 1801 et seq

Dated: March 5, 2010.
Alan D. Risenhoover,
Director, Office of Sustainable Fisheries, National Marine Fisheries Service.

[FR Doc. 2010-5183 Filed 3-9-10; 8:45 am]

BILLING CODE 3510-22-S